FEDERAL MARITIME COMMISSION

Ocean Transportation Intermediary License; Revocations

The Federal Maritime Commission hereby gives notice that the following Ocean Transportation Intermediary licenses have been revoked pursuant to section 40901 of the Shipping Act of 1984 (46 U.S.C. 40101) effective on the corresponding date shown below:

License Number: 1688F.

Name: Central Freight Forwarding, Inc.

Address: 9900 NW 25th Street, Miami, FL 33172.

Date Revoked: May 24, 2012.

Reason: Failed to maintain a valid bond.

License Number: 3767F.

Name: Advante Customs Broker and Freight Forwarders Inc.

Address: 3100 Kerner Blvd., Suite C-2, San Rafael, CA 94901.

Date Revoked: June 14, 2012.

Reason: Failed to maintain a valid bond.

License Number: 3918N.

Name: Benison International Transportation, Inc.

Address: 9740 Jordan Circle, Suite #A, Santa Fe Springs, CA 90670.

Date Revoked: June 5, 2012.

Reason: Failed to maintain a valid bond.

License Number: 10952N.

Name: Central Cargo Corporation.

Address: 9900 NW 25th Street, Miami, FL 33172.

Date Revoked: May 24, 2012.

Reason: Failed to maintain a valid bond.

License Number: 12903N.

Name: Kesco Container Line, Inc.

Address: 154-09 146th Avenue, 2nd Floor, Jamaica, NY 11434.

Date Revoked: May 23, 2012.

Reason: Failed to maintain a valid bond.

License Number: 15101F.

Name: Northstar Shipping & Trading, Inc.

Address: 2855 Mangum Road, Suite 535, Houston, TX 77092.

Date Revoked: May 23, 2012.

Reason: Failed to maintain a valid bond.

License Number: 016201N.

Name: Delta Line International, Inc.

Address: 7970 NW 56th Street, Miami, FL 33166.

Date Revoked: June 14, 2012.

Reason: Failed to maintain a valid bond.

License Number: 18359N.

Name: Topwinner Transportation (USA) Inc.

Address: 1641 West Main Street, Suite 308, Alhambra, CA 91801.

Date Revoked: May 31, 2012.

Reason: Failed to maintain a valid bond.

License Number: 019456N.

Name: Global Galan Logistics Inc.

Address: 3132 SW 173rd Terrace, Miramar, FL 33029.

Date Revoked: June 13, 2012.

Reason: Failed to maintain a valid bond.

License Number: 020029N.

Name: CJ Services International Corp.

Address: 10164 NW 41st Street, Doral, FL 33178.

Date Revoked: May 30, 2012.

Reason: Failed to maintain a valid bond.

License Number: 020185NF.

Name: Cruise Logistics LLC dba Freightco Logistics.

Address: 835 S 192nd Street, Suite 100, Sea Tac, WA 98148.

Date Revoked: June 8, 2012.

Reason: Failed to maintain valid bonds.

License Number: 020929F.

Name: S & E Transportation LLC.

Address: 26224 Enterprise Court, Lake Forest, CA 92630.

Date Revoked: June 3, 2012.

Reason: Failed to maintain a valid bond.

License Number: 021186NF.

Name: U.S. Xpress, Inc. dba Xpress Network Solutions.

Address: 4080 Jenkins Road, Chattanooga, TN 37421.

Date Revoked: June 13, 2012.

Reason: Voluntarily surrendered license.

License Number: 021243NF.

Name: Cargo Logistics & Trade Solutions, Limited Liability Company.

Address: 13367 NW 47th Avenue, Opa Locka, FL 33054.

Date Revoked: May 26, 2012.

Reason: Failed to maintain valid bonds.

License Number: 021277N.

Name: Topstar International Logistics, Inc.

Address: 2063 South Atlantic Blvd., Suite 2-M, Monterey Park, CA 91754.

Date Revoked: June 8, 2012.

Reason: Failed to maintain a valid bond.

Vern W. Hill,
Director, Bureau of Certification and Licensing.

[FR Doc. 2012-16921 Filed 7-10-12; 8:45 am]

BILLING CODE 6730-01-P